DEPARTMENT OF THE TREASURY

Bureau of the Public Debt

Submission for OMB Review; Comment Request

ACTION: Notice; correction.

SUMMARY: The Department of the Treasury published a document in the Federal Register on January 2, 2013, inviting the general public and other Federal agencies to comment on continuing information collections to reduce paperwork and respondent burden. This document contained incorrect references.

Correction: In the Federal Register of January 2, 2013, in FR Doc. 2012-31534, make the following corrections:

• Page 149, in the second column, replace OMB Number: “1535-0089” with OMB Number: “1535-0114”.

Dated: January 2, 2013.
Bruce A. Sharp,
Bureau Clearance Officer.

[FR Doc. 2013-00005 Filed 1-4-13; 8:45 am]

BILLING CODE 4810-39-P